DEPARTMENT OF HEALTH AND HUMAN SERVICES

Office of the Secretary

Public Meeting/Opportunity for Public Comment: Framework Convention on Tobacco Control (FCTC)

AGENCY: Department of Health and Human Services, Office of the Secretary, Office of Public Health and Science/Office of Global Health Affairs.

ACTION: Notice.

SUMMARY: The Department of Health and Human Services (HHS) is soliciting comments on the Framework Convention on Tobacco Control (FCTC), a proposed international legal instrument intended to address the global problem of tobacco use. Individuals and organizations are encouraged to comment on the FCTC in one or both of the following ways: (1) In writing, by submission through the mails, or e-mail; (2) in person, at a public meeting that will be convened in Nashville, TN.

DATES: Written comments may be submitted until September 27, 2002. Comments can be submitted by mail or electronically (electronic submissions are encouraged).

ADDRESSES: To submit electronic comments, send via e-mail to FCTC.OGHA@osophs.dhhs.gov. To submit comments by mail, send to: FCTC Comments (Attn: Ms. Gail Zaslow), Office of Global Health Affairs, 5600 Fishers Lane, Room 18-105, Rockville, MD 20857.

The public meeting will be held on September 20, 2002, from 9:15 a.m. to 5 p.m. at the Nashville Public Library, 615 Church Street, Nashville, TN 37219. Seating capacity is 125 people. Comments also will be accepted during the public meeting. Those who wish to attend are encouraged to register early with the contact person listed below. If you will require a sign language interpreter, or have other special needs, please notify the contact person by 4:30 E.D.T. on September 5, 2002.

FOR FURTHER INFORMATION CONTACT: Ms. Joy Epstein, Office of Global Health Affairs, 5600 Fishers Lane, Room 18-105, Rockville, MD 20857, 301-443-1774 (telephone) or 301-443-6822 (facsimile) or FCTC.OGHA@osophs.dhhs.gov.

SUPPLEMENTARY INFORMATION: In May 1999, the World Health Assembly, the governing body of the World Health Organization, unanimously adopted resolution WHA 52.18 calling for negotiation of a Framework Convention on Tobacco Control support (FCTC). The United States joined other countries in voicing support for negotiation of the convention, which is intended to address the global problem of tobacco use. Following two meetings of an FCTC working group held in Geneva in October 1999 and March 2000, an Intergovernmental Negotiating Body (INB) was established to negotiate the text of the FCTC and related protocols. Four meetings of the INB have been conducted, in October 2000, April and November 2001, and March 2002. A negotiating team headed by staff of the Office of Global Health Affairs (DHHS) represented the United States. Other members of the negotiating team represented HHS, the Departments of State, Treasury, Justice, Agriculture, and the U.S. Trade Representative. An interagency working group developed the guidance for the negotiating team.

The fifth INB session is scheduled for October 14-25, 2002.

(Background documents on the FCTC are available on the World Health Organization's Web site at http://tobacco.who.int/en/fctc/index.html.)

Written Comments: In preparation for the fifth INB session, the U.S. negotiating delegation is seeking comments from the public on the FCTC. A new draft of the FCTC was released by the chairman of the INB on July 16, 2002. It is available at http://www.who.int/gb/fctc/PDF/inb5/einb52.doc. Comments should be based on this version of the draft convention.

Announcement of Meeting: The U.S. Government is seeking to understand the perspectives of various organizations and individuals on the FCTC. The comment period and public meeting are intended to give interested persons, including public health and medical professionals, state and local officials, farmers, retailers, manufacturers, and others an opportunity to comment on the FCTC. Respondents to this notice will have the opportunity to speak to representatives of the government.

Meeting Location and Registration: The public meeting will be held on September 20, 2002, from 9:15 a.m. to 5 p.m. at the Nashville Public Library, 615 Church Street, Nashville, TN 37219.

If you would like to attend the public meeting, you are encouraged to register early by providing your name, title, firm name, address, and telephone number to Gail Zaslow (contact information above). The U.S. Government encourages individuals to submit written comments, either electronically or by mail. Comments also will be accepted during the meeting. If you would like to speak at the meeting, please notify Gail Zaslow (address above) when you register.

The transcript of the public meeting and submitted comments will be posted on the Internet at http://www.cdc.gov/tobacco/global/framework.htm.

Dated: August 21, 2002.
William R. Steiger,
Special Assistant to the Secretary for International Affairs and Director, Office of Global Health Affairs.

[FR Doc. 02-21842 Filed 8-27-02; 8:45 am]

BILLING CODE 4510-28-M